ENVIRONMENTAL PROTECTION AGENCY

[FRL-8700-8; Docket ID No. EPA-HQ-ORD 2007-0983]

Interim Report of the U.S. EPA Global Change Research Program Assessment of the Impacts of Global Change on Regional U.S. Air Quality: A Preliminary Synthesis of Climate Change Impacts on O3

AGENCY: Environmental Protection Agency (EPA).

ACTION: Notice of Peer-Review Workshop.

SUMMARY: EPA is announcing that Versar, Inc., an EPA contractor for external scientific peer review, will convene an independent panel of experts and organize and conduct an external peer-review workshop to review the external review draft document titled, “Interim Report of the U.S. EPA Global Change Research Program Assessment of the Impacts of Global Change on Regional U.S. Air Quality: A Preliminary Synthesis of Climate Change Impacts on O3” (EPA/600/R-07/094). The draft document was prepared by the National Center for Environmental Assessment (NCEA) within EPA's Office of Research and Development.

The public comment period, announced in (73 FR 39695), and the external peer-review workshop are separate processes that provide opportunities for all interested parties to comment on the document. EPA has released this draft document solely for the purpose of pre-dissemination peer review under applicable information quality guidelines. This document has not been formally disseminated by EPA. It does not represent and should not be construed to represent any Agency policy or determination.

EPA invites the public to register to attend this workshop as observers. In addition, EPA invites the public to give oral and/or provide written comments at the workshop regarding the draft document under review. The draft document and EPA's peer-review charge are available primarily via the Internet on NCEA's home page under the Recent Additions and the Data and Publications menus at www.epa.gov/ncea. In preparing a final report, EPA will consider the Versar, Inc. report of the comments and recommendations from the external peer-review workshop and any public comments that EPA receives in accordance with this notice.

DATES: The peer-review panel workshop will begin on August 26, 2008, at 8:30 a.m. and end at 5 p.m. on the same day.

ADDRESSES: The peer-review workshop will be held at the U.S. EPA, Research Triangle Park Campus, 109 TW Alexander Drive, Durham, NC 27709. The EPA contractor, Versar Inc., is organizing, convening, and conducting the peer-review workshop. To attend the workshop, register by August 19, 2008, preferably via the Internet at http://epa.versar.com/climatechangeimpactsonozone, or via the following means: by calling Versar, Inc. at 703-750-3000, extension 737 or 211; sending a facsimile to Attn: Malikah Moore at 703-642-6954, or; sending an e-mail to mmoore@versar.com and dsinkowski@versar.com. The draft “Interim Report of the U.S. EPA Global Change Research Program Assessment of the Impacts of Global Change on Regional U.S. Air Quality: A Preliminary Synthesis of Climate Change Impacts on O3” is available primarily via the Internet on the National Center for Environmental Assessment's home page under the Recent Additions and the Data and Publications menus at www.epa.gov/ncea. A limited number of paper copies are available from the Information Management Team, NCEA; telephone: 703-347-8561; facsimile: 703-347-8691. If you are requesting a paper copy, please provide your name, mailing address, and the document title. Copies are not available from Versar, Inc.

FOR FURTHER INFORMATION CONTACT: Questions regarding information, registration, access or services for individuals with disabilities, or logistics for the external peer-review workshop should be directed to Versar, Inc., 6850 Versar Center, Springfield, VA 22151; telephone: 703-750-3000, extension 737 or 211; facsimile: Attn.: Malikah Moore at 703-642-6954; e-mail: mmoore@versar.com and dsinkowski@versar.com. To request accommodation of a disability, please contact Malikah Moore at mmoore@versar.com or 703-750-3000, ext. 211, preferably at least 10 days prior to the meeting, to give as much time as possible to process your request.

If you need technical information about the document, please contact Brooke L. Hemming, Ph.D., National Center for Environmental Assessment (NCEA); telephone: 919-541-5668; facsimile: 919-541-7885; e-mail: hemming.brooke@epa.gov.

SUPPLEMENTARY INFORMATION:

I. Summary of Information About the Project/Document

The “Interim Report of the U.S. EPA Global Change Research Program Assessment of the Impacts of Global Change on Regional U.S. Air Quality: A Preliminary Synthesis of Climate Change Impacts on O3” is intended to provide air quality managers and scientists a summary and synthesis of the scientific results that have emerged from the EPA ORD Global Change Research Program (ORD GCRP) assessment of the impact of global change on U.S. regional air quality. The report discusses the studies that have focused on the sensitivity of U.S. air quality to meteorological changes associated with a warming climate in large regions within the continental U.S. The EPA recognizes that climate-air quality interactions occur at multiple scales (both spatial and temporal), and that an understanding of these interactions demands contributions from several scientific disciplines. The EPA ORD GCRP developed a research and assessment program that combines the resources and expertise of the ORD labs and centers toward the goal of developing the necessary scientific underpinnings. The ultimate goal of the Program is to provide air quality managers with the scientific information and tools needed to evaluate the implications of global change and to enhance their ability to consider global change in their decisions. The “Interim Report of the U.S. EPA Global Change Research Program Assessment of the Impacts of Global Change on Regional U.S. Air Quality: A Preliminary Synthesis of Climate Change Impacts on O3” is a preliminary step in that direction. This report provides an update of the progress that has been made in applying climate and atmospheric chemistry models to investigate potential future meteorological effects on air quality. It does not include changes in air pollutant emissions other than those that are explicitly linked to meteorological variables and incorporated within the models (e.g., biogenic VOC emissions). In addition, it provides a preliminary interpretation of what this improved scientific understanding means for air quality management. Future assessment reports will cover the combined impacts of changing climate and air pollutant emissions on air quality. The program also plans to develop additional reports that focus on additional pollutants, including PM and mercury. NCEA worked collaboratively with the EPA Office of Air and Radiation (OAR), and ORD's National Risk Management Research Laboratory (NRMRL), National Exposure Research Laboratory (NERL) and National Center for Environmental Research (NCER) on this report.

II. Workshop Information

Members of the public may attend the workshop as observers, and there will be a limited time for comments from the public in the afternoon. Please let Versar, Inc. know if you wish to make comments during the workshop. Space is limited, and reservations will be accepted on a first-come, first-served basis.

Dated: July 25, 2008.
Rebecca Clark,
Deputy Director, National Center for Environmental Assessment.

[FR Doc. E8-17925 Filed 8-4-08; 8:45 am]

BILLING CODE 6560-50-P